NUCLEAR REGULATORY COMMISSION

[Docket No. 50-320; License No. DPR-73; NRC-2010-0358]

Receipt of Request for Action Under 10 CFR 2.206

Notice is hereby given that by petition dated September 30, 2010, Mr. Eric J. Epstein has requested that pursuant to Title 10 of the Code of Federal Regulations (10 CFR), Section 2.206, “Requests for Action under this Subpart,” the U.S. Nuclear Regulatory Commission (NRC) take action with regard to the Three Mile Island Unit-2 (TMI-2) Nuclear Power Station. Mr. Epstein requests that the Commission take enforcement action in the form of a Demand for Information from FirstEnergy relating to inadequate financial assurance provided by the licensee for TMI-2's nuclear decommissioning fund prior to the consummation of FirstEnergy's proposed merger with Allegheny Energy. As the basis for this request, the petitioner states that the current radiological decommissioning cost estimate is $831.5 million and the current amount in the decommissioning trust fund is $484.5 million, as of December 31, 2008. Further, the petitioner states that FirstEnergy's decommissioning report is inadequate, and fails to account for the special status of TMI-2, the current level of underfunding, or the fact that decommissioning rate recovery for Metropolitan Edison and Pennsylvania Electric cease per Pennsylvania Public Utility Commission Orders on December 31, 2010.

The request is being treated pursuant to 10 CFR 2.206 of the Commission's regulations. The request has been referred to the Director of the Office of Federal and State Materials and Environmental Management Programs (FSME). As provided by 10 CFR 2.206, appropriate action will be taken on this petition within a reasonable time. The petitioner met with FSME's Petition Review Board (PRB), via teleconference, on October 19, 2010, to discuss the petition. The results of that discussion have been considered in the PRB's determination regarding the petitioner's request for additional information from FirstEnergy and in establishing the schedule for the review of the petition.

Copies of the petition are available to the public from the NRC's Agencywide Documents Access and Management System (ADAMS) in the public Electronic Reading Room on the NRC Web site at http://www.nrc.gov/reading-rm/adams.html under ADAMS Accession No. ML102770308, and are available for inspection at the Commission's Public Document Room, located at One White Flint North, 11555 Rockville Pike (first floor), Rockville, Maryland.

Dated at Rockville, Maryland, November 9, 2010.
For the Nuclear Regulatory Commission.
Charles L. Miller,
Director, Office of Federal and State Materials and Environmental Management Programs.

[FR Doc. 2010-29367 Filed 11-19-10; 8:45 am]

BILLING CODE 7590-01-P